FEDERAL RETIREMENT THRIFT INVESTMENT BOARD

5 CFR Part 1690

RIN 3222-AA00

Roth In-Plan Conversion; Correction

AGENCY: Federal Retirement Thrift Investment Board.

ACTION: Final rule; correction.

SUMMARY: The Federal Retirement Thrift Investment Board (FRTIB) published a final rule in the Federal Register on January 15, 2026, amending its regulation to permit participants in the Thrift Savings Plan (TSP) to convert amounts in their traditional TSP balances to their Roth TSP balances (91 FR 1669). This document corrects a minor, non-substantive issue in the published version, where one instance of the term “Roth initiation date” appeared rather than the term “Roth begin date.”

DATES: Effective January 28, 2026.

FOR FURTHER INFORMATION CONTACT:

For press inquiries: Jim Kaplan at (202) 864-7150. For information about how to comment on this proposed rule: Charles Stone at (202) 253-9006.

SUPPLEMENTARY INFORMATION: In FR Doc. 2026-00765 appearing on page 1669 in the Federal Register of Thursday, January 15, 2026, the following correction is made:

1. On page 1672, in the second column, in part 1690, in amendment 8, in the definition “Roth begin date”, paragraph (2) is corrected as follows:

§ 1690.1 [Corrected]

* * * * *

Roth begin date * * *

(2) If a participant has a civilian account and a uniformed services account, the Roth begin date for both accounts will be the same.

* * * * *

Dated: January 22, 2026.
Ravindra Deo,
Executive Director, Federal Retirement Thrift Investment Board.

[FR Doc. 2026-01450 Filed 1-23-26; 8:45 am]

BILLING CODE 6760-01-P